DEPARTMENT OF COMMERCE

National Oceanic and Atmospheric Administration

[RTID 0648-XE087]

Endangered Species; File No. 27551

AGENCY: National Marine Fisheries Service (NMFS), National Oceanic and Atmospheric Administration (NOAA), Commerce.

ACTION: Notice; issuance of permit.

SUMMARY: Notice is hereby given that the Georgia Department of Natural Resources (GA DNR) has been issued a permit for the incidental take of shortnose (Acipenser brevirostrum) and Atlantic sturgeon (A. oxyrinchus) associated with the otherwise lawful commercial shad fishery in Georgia.

ADDRESSES: The permit and related documents are available on the NMFS Office of Protected Resources website at: https://www.fisheries.noaa.gov/action/incidental-take-permit-georgia-department-natural-resources-0.

FOR FURTHER INFORMATION CONTACT: Celeste Stout, phone: (301) 427-8436; email: Celeste.Stout@noaa.gov.

SUPPLEMENTARY INFORMATION: Section 9 of the Endangered Species Act (ESA) and Federal regulations prohibits the `taking' of a species listed as endangered or threatened. The ESA defines “take” to mean harass, harm, pursue, hunt, shoot, wound, kill, trap, capture, or collect, or to attempt to engage in any such conduct. NMFS may issue permits, under limited circumstances to take listed species when the takes are incidental to, and not the purpose of, otherwise lawful activities. Section 10(a)(1)(B) of the ESA provides for authorizing incidental take of listed species. The regulations for issuing incidental take permits for threatened and endangered species are promulgated at 50 CFR 222.307.

Species Covered in This Notice

The following species are included in the conservation plan and permit application: Atlantic (Acipenser oxyrinchus) and shortnose (A. brevirostrum) sturgeon.

Background

On August 21, 2023, notice was published in the Federal Register (88 FR 56804) that a request for a permit for the incidental take of shortnose and Atlantic sturgeon associated with the otherwise lawful commercial shad fishery in Georgia had been submitted by GA DNR. No comments were received during the 30 day public comment period. The requested permit has been issued under the authority of the ESA of 1973, as amended (16 U.S.C. 1531 et seq.) and the regulations governing the taking, importing, and exporting of endangered and threatened species (50 CFR parts 222-226).

Permit No. 27551

The permit authorizes take of ESA-listed shortnose and Atlantic sturgeon that are caught incidental to the Georgia commercial shad fishery. GA DNR incidental capture will not exceed 60 shortnose sturgeon per year (no more than 180 in a 3-year period) and 40 Atlantic sturgeon per year (no more than 120 in a 3-year period) in the Altamaha River; 5 shortnose sturgeon per year (no more than 15 in a 3-year period) and 25 Atlantic sturgeon per year (no more than 75 in a 3-year period) in the Savannah River. No lethal takes were requested by GA DNR because no mortalities have been observed over the last 10 years. However, due to the risks posed by capture in set and drift gill nets in the GA shad fishery, 10 percent of sturgeon that are captured are expected to be injured and 2.3 percent of both shortnose and Atlantic sturgeon are expected to suffer mortality. Thus, from the above authorized take of shortnose sturgeon, no more than 17 of the interactions may result in injury and no more than 8 mortalities may occur over the duration of the permit. From the above authorized take of Atlantic sturgeon, no more than 17 of the interactions may result in injury and no more than 8 mortalities may occur over the duration of the permit.

Conservation Plan

Section 10 of the ESA specifies that no permit may be issued unless an applicant submits an adequate conservation plan. The conservation plan prepared by GA DNR describes measures designed to minimize and mitigate the impacts of any incidental take of ESA-listed shortnose sturgeon and Atlantic sturgeon. The State of Georgia has amended its commercial fishing regulations for the Georgia commercial shad fishery to minimize the incidental capture of ESA-listed shortnose sturgeon and the South Atlantic, Carolina, Chesapeake Bay, New York Bight, and Gulf of Maine Distinct Population Segments (DPS) of Atlantic sturgeon. The new regulations restrict fishing to the lower portions of the Savannah and Altamaha Rivers as follows: Waters of the Altamaha River system open to commercial shad fishing are the Ohoopee River upstream to the U.S. Hwy. 1 bridge and the Altamaha River downstream of the US Hwy. 1 bridge to the estuarine waters of the sound/beach boundary. Although they historically were open prior to 2011, all waters upstream of the U.S. Hwy. 1 bridge are closed to commercial shad fishing. These upstream waters include a significant portion of the preferred spawning area and habitat utilized by sturgeon, hence their closure and protection by the GADNR. Waters of the Savannah River system open to commercial shad fishing are the Savannah River downstream of the US Hwy. 301 bridge to the estuarine waters of the sound/beach boundary. The waters upstream of the US Hwy. 301 bridge are considered to include a significant portion of the preferred spawning area and habitat utilized by sturgeon, hence their closure and protection by the GADNR.

The Georgia shad fishery is open from January 1 to as late as April 30 each year, but would typically end March 31. In addition, GA DNR will implement measures described in the conservation plan that accompanies the permit to minimize, monitor, and mitigate the incidental take of ESA-listed sturgeon. The conservation plan includes continued implementation of Georgia's amended commercial fishing regulations for the Georgia shad fishery, which are expected to minimize the bycatch of sturgeon by closing to shad fishing sections of the rivers that previously had the highest bycatch rates. These closures would also protect known and suspected sturgeon spawning sites. Georgia regulations require that sturgeon captured in shad nets be released unharmed into the waters from which they were taken. GA DNR is also expected to incidentally capture sturgeon during monitoring of the shad run. GA DNR will set drift nets in the Altamaha River during the fishing season to monitor the shad run and approximate the rate of incidentally captured shortnose and Atlantic sturgeon. This take is covered in the take authorizations provided above, no mortalities are anticipated. GA DNR will continue to educate commercial shad fisherman on identification of sturgeon species; proper handling techniques to minimize impacts to incidentally captured sturgeon, including the importance of frequently checking nets and immediately releasing sturgeon that were incidentally captured; the biological and legal importance of reporting incidental capture of sturgeon; and the importance of accurately recording sturgeon intercepts and returning the trip tickets in a timely manner. GA DNR has also committed to will insert passive integrated transponder (PIT) tags and collect genetic samples from Atlantic sturgeon incidentally captured during monitoring in order to better determine what DPSs of Atlantic sturgeon are being captured in the fishery. The cost associated with the PIT tagging and the genetic sampling components of the conservation plan will be funded through the sources identified in the application.

National Environmental Policy Act

Issuing an ESA section 10(a)(1)(B) permit constitutes a Federal action requiring NMFS to comply with the National Environmental Policy Act (NEPA; 42 U.S.C. 4321 et seq.) as implemented by 40 CFR parts 1500-1508 and NOAA Administrative Order 216-6, Environmental Review Procedures for Implementing the National Policy Act (1999). NMFS has determined that the activity proposed is categorically excluded from the requirement to prepare an environmental assessment or environmental impact statement. This action falls within the B3 category—Issuance of, and amendments to, “low effect” Incidental Take Permits and their supporting “low effect” Habitat Conservation Plans under section 10(a)(1)(B) of the ESA. Additionally there are no extraordinary circumstances with the potential for significant environmental effects that would preclude the issuance of this permit type from being categorically excluded.

Dated: July 3, 2024.
Angela Somma,
Chief, Endangered Species Division, Office of Protected Resources, National Marine Fisheries Service.

[FR Doc. 2024-15018 Filed 7-8-24; 8:45 am]

BILLING CODE 3510-22-P